DEPARTMENT OF HOMELAND SECURITY

[Docket No. DHS-2009-0115]

DHS Workforce Diversity

AGENCY: Office of the Chief Human Capital Officer, DHS.

ACTION: Notice of meeting and request for public comment.

SUMMARY: On September 16, 2009, the Department of Homeland Security (DHS), Office of the Chief Human Capital Officer will host a DHS Workforce Diversity informational meeting to discuss ways to enhance diversity within the DHS workforce and, in particular, among the Department's senior leadership ranks. The purpose of this meeting is to provide stakeholders from the diversity community with an overview of DHS diversity policy, initiatives, and planning. The meeting, which will also be attended by representatives from the DHS Office for Civil Rights and Civil Liberties, DHS component representatives and members of the diversity community, is strictly informational and it is not meant to result in advice or recommendations to the Department.

In addition to the meeting, DHS is opening a public docket at http://www.regulations.gov, docket no. DHS-2009-0115, to receive public comments and related material regarding DHS workplace diversity and, in particular, ways to enhance diversity in DHS senior leadership positions.

DATES: Comments and related material submitted electronically must be submitted to the Federal eRulemaking Portal http://www.regulations.gov on or before October 30, 2009. Comments and related material submitted by facsimile or mail must reach the Department of Homeland Security, Office of the Chief Human Capital Officer, Diversity Program Manager at the address shown below on or before October 30, 2009.

ADDRESSES: You may submit comments and related material identified by DHS docket number DHS-2009-0115, using any one of the following methods:

(1) Via the Internet at Federal eRulemaking Portal: http://www.regulations.gov. Follow the instructions for submitting comments and use docket number DHS-2009-0115.

(2) Via facsimile to Office of the Chief Human Capital Officer, DHS Diversity Program Manager, ATTN: Ms. Patricia Trujillo, at 202-357-8140. Please limit any facsimile submissions to 20 pages.

(3) By mail to the Department of Homeland Security, Office of the Chief Human Capital Officer, DHS Diversity Program Manager, ATTN: Ms. Patricia Trujillo, Department of Homeland Security, USM/CHCO Mail Stop 0170, Diversity Program Manager, 245 Murray Lane, SW., Washington, DC 20528-0170.

Please use only one of these three methods to prevent duplication. All comments and related material received will be posted, without change, to http://www.regulations.gov and will include any personal information you have provided.

FOR FURTHER INFORMATION CONTACT: If you have questions regarding this notice please contact DHS Diversity Program Manager, Ms. Patricia Trujillo at 202-357-8228, facsimile 202-357-8140, or via mail to Department of Homeland Security, USM/CHCO Mail Stop 0170, Diversity Program Manager, 245 Murray Lane, SW., Washington, DC 20528-0170.

SUPPLEMENTARY INFORMATION:

Background and Purpose: The Department of Homeland Security protects the nation from terrorist attacks, responds to natural disasters and secures the borders against unlawful entry, drug trafficking and other illegal activities. DHS believes that a diverse workforce, led by a diverse cadre of senior executives, is key to successfully completing these important missions. DHS is committed to making the vision of a diverse workforce in DHS a reality. DHS is asking for public comments that address ways to enhance diversity in DHS senior leadership ranks and other positions. As part of carrying out this commitment, DHS has invited over fifty organizations from the diversity community to participate in a half-day forum to discuss ways to enhance diversity among the Department's senior leadership ranks, while seeking input regarding ways to improve the diversity of the DHS workforce at all levels.

Procedural: Due to space and other facility constraints, the DHS Workforce Diversity meeting is by invitation only and is not open to the public at large. DHS is, however, highly interested in receiving comments and related materials from those not able to attend the meeting, and is opening a public docket at DHS-2009-0115 to permit the public to post comments and related material for DHS review. DHS will not record comments made at the DHS Workforce Diversity meeting, but will post a summary of those comments to the Federal eRulemaking docket for public review.

This notice is issued under authority of 5 U.S.C. 552.

Jeffrey Neal,
Chief Human Capital Officer,
Department of Homeland Security.

[FR Doc. E9-22199 Filed 9-14-09; 8:45 am]

BILLING CODE 9110-9B-P